DEPARTMENT OF ENERGY

Federal Energy Regulatory Commission

[Project No. 12597-021; Project No. 12598-019]

Turnbull Hydro, LLC; Notice of Availability of Environmental Assessment

August 4, 2010.

In accordance with the National Environmental Policy Act of 1969 and the Federal Energy Regulatory Commission's (Commission or FERC's) regulations, 18 Code of Federal Regulations (CFR) part 380 (Order No. 486, 52 Federal Register [FR] 47897), the Office of Energy Projects has reviewed Turnbull Hydro, LLC's (Turnbull Hydro's) application for amendment of license for the Lower Turnbull Drop and Upper Turnbull Drop Hydroelectric Projects (FERC Project Nos. 12597 and 12598), located on the Spring Valley Canal, near the town of Fairfield, in Teton County, Montana. As licensed, the Lower Turnbull Drop and Upper Turnbull Drop Hydroelectric projects would occupy a total of 48.0 and 37.7 acres of federal lands, respectively, administered by the U.S. Bureau of Reclamation.

The EA is attached to a Commission order titled, “Order Amending License and Revising Annual Charges,” which was issued August 4, 2010, and is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659.

You may also register online at http: //www.ferc.gov/docs-filing/esubs cription.asp to be notified via e-mail of new filings and issuances related to this or other pending projects. For assistance, contact FERC Online Support.

Nathaniel J. Davis, Sr.,
Deputy Secretary.

[FR Doc. 2010-19778 Filed 8-10-10; 8:45 am]

BILLING CODE 6717-01-P